ENVIRONMENTAL PROTECTION AGENCY

40 CFR Part 52

[IN145-1b; FRL-7398-6]

Approval and Promulgation of Implementation Plans; Indiana

AGENCY: Environmental Protection Agency (EPA).

ACTION: Proposed rule.

SUMMARY: The EPA is proposing to approve revisions to particulate matter (PM) emissions regulations for Union Tank Car of Lake County, Indiana. The Indiana Department of Environmental Management (IDEM) submitted the revised regulations on April 30, 2002 and September 6, 2002 as an amendment to its State Implementation Plan (SIP). The revisions consist of relaxing the PM limits for one emissions unit; however, actual emissions will not increase, and the PM National Ambient Air Quality Standards (NAAQS) should be protected. EPA is approving revisions for Union Tank Car because complying with the current limits is infeasible, and because the revisions should not harm air quality.

DATES: The EPA must receive written comments on this proposed rule by December 20, 2002.

ADDRESSES: You should mail written comments to: J. Elmer Bortzer, Chief, Regulation Development Section, Air Programs Branch (AR-18J), U.S. Environmental Protection Agency, Region 5, 77 West Jackson Boulevard, Chicago, Illinois 60604.

You may inspect copies of Indiana's submittal at: Regulation Development Section, Air Programs Branch (AR-18J), U.S. Environmental Protection Agency, Region 5, 77 West Jackson Boulevard, Chicago, Illinois 60604.

FOR FURTHER INFORMATION CONTACT: Matt Rau, Environmental Engineer, Regulation Development Section, Air Programs Branch (AR-18J), U.S. Environmental Protection Agency, Region 5, 77 West Jackson Boulevard, Chicago, Illinois 60604, Telephone Number: (312) 886-6524, E-Mail Address: rau.matthew@epa.gov.

SUPPLEMENTARY INFORMATION:

Table of Contents

I. What Action Is EPA Taking Today?

II. Where can I find more information about this proposal and the corresponding direct final rule?

I. What Action Is EPA Taking Today?

The EPA is proposing to approve revisions to particulate matter emissions regulations for Union Tank Car's railcar manufacturing facility in Lake County, Indiana. IDEM submitted the revised regulations to EPA on April 30, 2002 and September 6, 2002 as an amendment to its SIP.

The revisions consist of relaxing the limits for one emissions unit; however, actual emissions will not increase, and the PM NAAQS should be protected. EPA is proposing approving revisions for Union Tank Car because complying with the current limits is infeasible, and because the revisions should not harm air quality.

II. Where Can I Find More Information About This Proposal and the Corresponding Direct Final Rule?

For additional information see the direct final rule published in the rules section of this Federal Register.

Dated: October 15, 2002.
David A. Ullrich,
Acting Regional Administrator, Region 5.

[FR Doc. 02-29474 Filed 11-19-02; 8:45 am]

BILLING CODE 6560-50-P